DEPARTMENT OF TRANSPORTATION

Maritime Administration

U.S. Merchant Marine Academy Board of Visitors Meeting

AGENCY: Maritime Administration, DOT.

ACTION: Meeting notice.

SUMMARY: The U.S. Department of Transportation, Maritime Administration (MARAD) announces that the following U.S. Merchant Marine Academy (Academy) Board of Visitors (BOV) meeting will take place:

1. Date: November 6, 2017.

2. Time: 11:00-12:00 p.m.

3. Location: U.S. Merchant Marine Academy, Kings Point, NY; Crabtree Room in the library.

4. Purpose of the Meeting: The purpose of this meeting is to provide for an annual visit of the members to the Academy.

5. Agenda Summary:

a. Vote on the BOV charter

b. Briefing on the state of the Academy and the status of reaccreditation.

6. Public Access to the Meeting: This meeting is open to the public. Seating is on a first-come basis. Members of the public wishing to attend the meeting will need to show photo identification in order to gain access to the meeting location.

FOR FURTHER INFORMATION CONTACT: The BOV's Designated Federal Officer and Point of Contact Brian Blower; 202 366-2765; Brian.Blower@dot.gov.

SUPPLEMENTARY INFORMATION: Any member of the public is permitted to file a written statement with the Academy BOV. Written statements should be sent to the Designated Federal Officer at: Brian Blower; 1200 New Jersey Ave. SE., W28-314, Washington, DC 20590 or via email at Brian.Blower@Dot.gov. (Please contact the Designated Federal Officer for information on submitting comments via fax.) Written statements must be received no later than three working days prior to the next meeting in order to provide time for member consideration. Only written statements will be considered by the BOV, no member of the public will be allowed to present questions from the floor or speak to any issue under consideration by the BOV.

(Authority: 46 U.S.C. 51312; 5 U.S.C. app. 552b; 41 CFR parts 102-3.140 through 102-3.165)

By Order of the Maritime Administrator.
Dated: October 30, 2017.
T. Mitchell Hudson, Jr.,
Secretary, Maritime Administration.

[FR Doc. 2017-23907 Filed 11-2-17; 8:45 am]

BILLING CODE 4910-81-P